DEPARTMENT OF JUSTICE

Parole Commission

Sunshine Act Meetings

DATE AND TIME: Thursday June 1, 2023, at 1:30 p.m.

PLACE: U.S. Parole Commission, 90 K Street NE, 3rd Floor, Washington, DC.

STATUS: Open.

MATTERS TO BE CONSIDERED:

1. Approval of October 4, 2022, Quarterly Meeting Minutes.

2. Updates since October Quarterly Meeting from the Acting Chairman, Commissioner, Acting Chief of Staff/Case Operations Administrator, Case Services Administrator, Executive Officer, and General Counsel.

CONTACT PERSON FOR MORE INFORMATION: Jacquelyn Graham, Staff Assistant to the Chairman, U.S. Parole Commission, 90 K Street NE, 3rd Floor, Washington, DC 20530, (202) 346-7010.

Dated: May 2, 2023.
Patricia K. Cushwa,
Chairman (Acting), U.S. Parole Commission.

[FR Doc. 2023-11381 Filed 5-24-23; 11:15 am]

BILLING CODE 4410-31-P